DEPARTMENT OF COMMERCE

International Trade Administration

[C-533-825]

Polyethylene Terephthalate Film, Sheet, and Strip (PET Film) From India: Final Results of Countervailing Duty Administrative Review; 2020

AGENCY: Enforcement and Compliance, International Trade Administration, Department of Commerce.

SUMMARY: The U.S. Department of Commerce (Commerce) determines certain producers/exporters of polyethylene terephthalate film, sheet, and strip (PET film) from India received countervailable subsidies during the period of review (POR) January 1, 2020, through December 31, 2020.

DATES: Applicable December 12, 2022.

FOR FURTHER INFORMATION CONTACT: Nicholas Czajkowski or Richard Roberts, AD/CVD Operations, Office I, Enforcement and Compliance, International Trade Administration, U.S. Department of Commerce, 1401 Constitution Avenue NW, Washington, DC 20230; telephone: (202) 482-1395 or (202) 482-3464, respectively.

SUPPLEMENTARY INFORMATION:

Background

On August 9, 2022, Commerce published the preliminary results of the 2020 administrative review of the countervailing duty order on PET film from India in the Federal Register.¹ This review covers a single mandatory respondent, SRF Limited (SRF).² We invited interested parties to comment on the Preliminary Results.³ On September 1, 2022, Jindal Poly Films Ltd. (Jindal) submitted a timely-filed case brief.⁴ No rebuttal comments were filed. Commerce conducted this review in accordance with section 751(a) of the Tariff Act of 1930, as amended (the Act).

¹ See Polyethylene Terephthalate Film, Sheet and Strip from India: Preliminary Results of Countervailing Duty Administrative Review, Recission in Part; 2020, 87 FR 48453 (August 9, 2022).

² SRF Limited is also known as SRF Limited of India, SRF Ltd., and SRF Limited Packaging Films.

³ See Preliminary Results, 87 FR at 48454.

⁴ See Jindal's Letter, “Case Brief,” dated September 1, 2022 (Jindal's Case Brief).

Scope of the Order ⁵

⁵ See Countervailing Duty Order: Polyethylene Terephthalate Film, Sheet, and Strip (PET Film) from India 67 FR 44179 (July 1, 2002) (Order).

The products covered by the Order are CWP. A full description of the scope of the Order is contained in the Issues and Decision Memorandum.⁶

⁶ See Memorandum, “Polyethylene Terephthalate Film, Sheet, and Strip (PET film) from India; Issues and Decision Memorandum for the Final Results of Antidumping Duty Administrative Review; 2020” dated concurrently with, and hereby adopted by, this notice (Issues and Decision Memorandum).

Analysis of Comments Received

All issues raised in the brief submitted by Jindal in this administrative review are addressed in the Issues and Decision Memorandum and are listed in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

We made no changes to our calculations for the final results of review. However, we corrected Jindal's listed name (Jindal Poly Films Ltd.) that Commerce misidentified in the Preliminary Results published in the Federal Register.⁷

⁷ See Preliminary Results, 87 FR at 48454.

Rate for Non-Examined Companies

In this review, the final rate calculated for SRF, the sole mandatory respondent, was not zero, de minimis, or based entirely on facts available. Therefore, consistent with section 705(c)(5)(A) of the Act, for the companies for which a review was requested that were not selected as mandatory company respondents, and for which Commerce did not receive a timely request for withdrawal of review, Commerce based the final subsidy rate on the final rate calculated for SRF.

Final Results of Administrative Review

In accordance with 19 CFR 351.221(b)(5), we determine the following net countervailable subsidy rates for the period January 1, 2020, through December 31, 2020:

Producer or exporter | Subsidy rate (percent ad valorem)
SRF Limited ⁸ | 3.52
Review-Specific Average Rate Applicable to the Following Companies
Ester Industries Limited | 3.52
Garware Polyester Ltd | 3.52
Jindal Poly Films Limited | 3.52
Polyplex USA | 3.52

Disclosure

⁸ SRF Limited is also known as SRF Limited of India, SRF Ltd., and SRF Limited Packaging Films.

Normally, Commerce discloses to the parties in a proceeding the calculations performed in connection with a final results of review within five days after public announcement of final results, or, if there is no public announcement, within five days of the date of publication of the notice of final results in the Federal Register.⁹ However, because Commerce made no adjustments to the subsidy rate calculation methodology used in the Preliminary Results, there are no calculations to disclose for the final results of review.

⁹ See 19 CFR 351.224(b).

Assessment Rates

In accordance with section 751(a)(2)(C) of the Act and 19 CFR 351.212(b)(2), Commerce shall determine, and U.S. Customs and Border Protection (CBP) shall assess, countervailing duties on all appropriate entries covered by this review, for the above-listed companies at the applicable ad valorem assessment rates. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

We are issuing and publishing these final results in accordance with sections 751(a)(1) and 777(i)(1) of the Act.

Dated: December 6, 2022.
Lisa W. Wang,
Assistant Secretary for Enforcement and Compliance.

Appendix—List of Topics Discussed in the Issues and Decision Memorandum

I. Summary

II. Background

III. Scope of the Order

IV. Changes to the Preliminary Results

V. Subsidies Valuation Information

VI. Analysis of Programs

VII. Discussion of Comment

VIII. Recommendation

[FR Doc. 2022-26875 Filed 12-9-22; 8:45 am]

BILLING CODE 3510-DS-P